DEPARTMENT OF STATE

[Public Notice 5263]

Announcement of Meetings of the International Telecommunication Advisory Committee

SUMMARY: This notice announces the program of International Telecommunication Advisory Committee meetings to prepare for meetings of the Organization for Economic Co-operation and Development Committee for Information, Computer & Communications Policy (ICCP), various International Telecommunication Union Telecommunication Standardization Sector (ITU-T) and Radiocommunication Sector (ITU-R) Study Groups, and the Organization of American States Inter-American Telecommunication Commission (CITEL) through July 2006.

The International Telecommunication Advisory Committee (ITAC) will meet to prepare for the OECD ICCP March meeting on February 27, 2006 2-4 p.m. at Verizon Communications, 1300 Eye Street, Washington, DC determined.

The International Telecommunication Advisory Committee (ITAC) will meet to prepare for various ITU-R Study Group meetings continuously by e-mail through the end of July 2006. People desiring to participate in this activity should contact the secretariat at minardje@state.gov or 202-647-2592 for directions.

The International Telecommunication Advisory Committee (ITAC) will meet to prepare for ITU-T SG16 (Multimedia Terminals, Systems & Applications) on March 16, 2006 in Chantilly, Virginia at a location and time to be determined.

The International Telecommunication Advisory Committee (ITAC) will meet to prepare for ITU-T SG17 (Security, Languages, & Telecommunication Software) on March 29, 2006 2-4 p.m. in Washington, DC at a location to be determined.

The International Telecommunication Advisory Committee (ITAC) will meet to prepare for ITU-T Telecommunication Sector Advisory Group on April 6, May 18, June 8 and June 15, 2006 in Washington, DC all 2-4 p.m. at a location to be determined.

The International Telecommunication Advisory Committee (ITAC) will meet to prepare for ITU-T SG2 (Operational aspects of service provision, networks and performance) on April 11, 2006 in Washington, DC 10-noon at a location to be determined.

The International Telecommunication Advisory Committee (ITAC) will meet to prepare for CITEL PCC.I (Telecommunication) on April 11 and May 11, 2006 all 2-4 p.m. in Washington, DC at a location to be determined.

The International Telecommunication Advisory Committee (ITAC) will meet to prepare for ITU-T SG9 (Integrated broadband cable networks and television and sound transmission) on April 20, 2006 2-4 p.m. in Washington, DC at a location to be determined.

The International Telecommunication Advisory Committee (ITAC) will meet to prepare for ITU-T SG4 (Telecommunication Management) on May 4, 2006 in Chantilly, VA at a time and location to be determined.

The International Telecommunication Advisory Committee (ITAC) will meet to prepare for ITU-T SG3 (Tariff and accounting principles including related telecommunication economic and policy issues) on May 18, 2006 10-noon, May 25 and June 1, 2006 2-4 p.m. in Washington, DC at a location to be determined.

The International Telecommunication Advisory Committee (ITAC) will meet to prepare for ITU-T SG13 (Next Generation Networks), SG11 (Signalling requirements and protocols), and SG19 (Mobile Telecommunication Networks) on June 30, 2006, in Savannah, GA (following and co-located with ATIS PTSC/PRQC meetings) at a location to be determined.

These meetings are open to the public. Particulars on meeting location and times, and information on conference bridges is available from the secretariat minardje@state.gov, telephone 202-647-2592.

Dated: February 7, 2006.
Anne D. Jillson,
Foreign Service Officer, International Communications & Information Policy, Department of State.

[FR Doc. E6-2157 Filed 2-14-06; 8:45 am]

BILLING CODE 4710-07-P